DEPARTMENT OF TRANSPORTATION

Federal Motor Carrier Safety Administration

[Docket No. FMCSA-2006-26367]

Motor Carrier Safety Advisory Committee (MCSAC); Public Meetings of the CSA and Motorcoach Subcommittees

AGENCY: Federal Motor Carrier Safety Administration (FMCSA), DOT.

ACTION: Notice of MCSAC subcommittee meetings.

SUMMARY: FMCSA announces that the Motor Carrier Safety Advisory Committee's (MCSAC) Compliance, Safety, Accountability (CSA), and Motorcoach Hours of Service (HOS) subcommittees will meet from Monday-Thursday, June 17-20, 2013, in Arlington, VA. On Monday and Tuesday, June 17 and 18, the CSA subcommittee will meet to discuss ideas, concepts, and suggestions on FMCSA's CSA program. On Wednesday and Thursday, June 19 and 20, the Motorcoach HOS subcommittee will meet to complete its draft recommendations for the full MCSAC to consider on hours-of-service for motorcoach drivers. Both meetings are open to the public for their entirety and there will be a public comment period at the end of each day.

Times and Dates: The meetings will be held Monday-Thursday, June 17-20, 2013, from 9 a.m. to 4 p.m., Eastern Daylight Time (E.D.T.). The meetings will be held at the National Training Center, 1310 N. Courthouse Road, Suite 600, Arlington, VA 22201.

Copies of all MCSAC Task Statements and an agenda for the entire meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities: For information on facilities or services for individuals with disabilities or to request special assistance at the meeting, contact Luis Mejias at (617) 494-2041, luis.mejias@dot.gov, by Wednesday, June 12, 2013.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

Task 12-03: CSA Subcommittee

The CSA Subcommittee will discuss information, concepts, and ideas concerning FMCSA's CSA program. The subcommittee will continue its efforts to:

1. Identify and make recommendations for enhancements of the CSA program. These topics should include but not be limited to Safety Measurement System (SMS) and the interventions/investigative processes.

2. Prioritize recommended enhancements of CSA to enable the Agency to direct its efforts to the most important or timely needs of the program.

Task 11-06: Motorcoach HOS

The Motorcoach HOS Subcommittee will meet to discuss information, concepts, and ideas it believes the full MCSAC should provide to FMCSA relating to the hours-of-service (HOS) requirements for drivers of passenger-carrying vehicles. A copy of the full task statement is posted at FMCSA's Web site: http://mcsac.fmcsa.dot.gov.

II. Meeting Participation

Oral comments from the public will be heard during the last half-hour of the meetings each day. Should all public comments be exhausted prior to the end of the specified period, the comment period will close. Members of the public may submit written comments on the topics to be considered during the meeting by Wednesday, June 12, 2013, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: May 22, 2013.
Larry W. Minor,
Associate Administrator for Policy.

[FR Doc. 2013-12693 Filed 5-28-13; 8:45 am]

BILLING CODE 4910-EX-P